FEDERAL COMMUNICATIONS COMMISSION

[OMB 3060-0004; FRS 17099]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before December 7, 2020. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele, (202) 418-2991.

SUPPLEMENTARY INFORMATION:

OMB Control Number: 3060-0004.

Title: Sections 1.1307 and 1.1311, Guidelines for Evaluating the Environmental Effects of Radiofrequency Exposure.

Form Number: N/A.

Type of Review: Revision of a currently approved collection.

Respondents: Individuals or households, Business or other for-profit, Not-for-profit institutions, and State, Local or Tribal government.

Number of Respondents and Responses: 335,441 Respondents; 335,441 Responses.

Estimated Time per Response: 0.0833 hours (5 minutes)−20 hours.

Frequency of Response: On occasion reporting requirement and third-party disclosure requirement.

Obligation to Respond: Required to obtain or retain benefits. Statutory authority for this Information collection is contained in 47 U.S.C. 154(i), 302, 303, 303(r), and 307.

Total Annual Burden: 41,997 hours.

Total Annual Costs: $2,933,431.

Privacy Act Impact Assessment: No impact(s).

Nature and Extent of Confidentiality: There is a minimal exemption from the Freedom of Information Act (FOIA), 5 U.S.C. 552(b)(4), and 47 CFR 0.459 of the Commission's rules, that is granted for trade secrets and privileged or confidential commercial or financial information, which may be submitted to the Commission as part of the documentation of test results. No other assurances of confidentiality are provided to respondents.

Needs and Uses: The Commission will submit this revised information collection to the Office of Management and Budget (OMB) after this 60-day comment period in order to obtain the full three-year clearance.

This information collection is a result of responsibility placed on the FCC by the National Environmental Policy Act (NEPA) of 1969. NEPA requires that each federal agency evaluate the impact of “major actions significantly affecting the quality of the human environment.” It is the FCC's opinion that this is the most efficient and reasonable method of complying with NEPA with regard to the environmental issue of radiofrequency radiation from FCC-regulated transmitters.

The December 2019 RF Exposure Second Report and Order, ET Docket Nos. 03-137 and 13-184, FCC 19-126, amended §§ 1.1307, 2.1091 and 2.1093 requiring approval by OMB under the Paperwork Reduction Act (85 FR 18131, April 1, 2020). The Commission subsequently stated that the amendments to these rules affects information collections under the Paperwork Reduction Act. 85 FR 33578 (June 2, 2020). Revision to information collection effected by amendments to §§ 2.1091 and 2.1093 is reported separately under OMB Information Collection 3060-0057.

In amended § 1.1307, the Commission revised its implementing rules to reflect modern technology and current uses. The Commission streamlined the criteria for determining when an applicant or licensee is exempt from our radio frequency (RF) exposure evaluation criteria by replacing service-based exemptions with a formula-based approach. For those applicants and licensees who do not qualify for an exemption, the Commission provided more flexibility to establish compliance with our RF exposure limits. The Commission also specified methods that RF equipment operators can use to mitigate the risk of excess exposure, both to members of the public and trained workers (such as training, supervision, and signage). The amended rules provide more efficient, practical, and consistent RF exposure evaluation procedures and mitigation measures to help ensure compliance with the existing RF exposure limits.

Most of the changes to § 1.1307 represent clarification or simplification of existing requirements and are not expected to significantly increase or decrease the estimated burden to respondents or to the Federal government. To address components of the amended requirements that were not included in previous burden estimates, isolated revisions were made to the burden estimates as summarized in the supporting statement of the Information Collection. To update burden estimates based on most recently available data, the Commission also adjusted the total number of respondents/responses, the total annual hourly burden, and the total annual costs from the previous estimates, based on licensing data for calendar year 2019.

Federal Communications Commission.
Marlene Dortch,
Secretary, Office of the Secretary.

[FR Doc. 2020-21492 Filed 10-6-20; 8:45 am]

BILLING CODE 6712-01-P